DEPARTMENT OF HOMELAND SECURITY

Bureau of Customs and Border Protection

Retraction of Revocation Notice

AGENCY: Bureau of Customs and Border Protection, U.S. Department of Homeland Security.

ACTION: General notice.

SUMMARY: The below-identified Customs broker license was erroneously included in a list of revoked Customs broker licenses. See 69 FR 51512, dated October 9, 2001.

Name | License # | Port name
Miami Valley Worldwide, Inc | 11297 | Cleveland.

Customs broker license No. 11297 remains valid.

Dated: June 19, 2004.
Jason P. Ahern,
Assistant Commissioner, Office of Field Operations.

[FR Doc. 04-16041 Filed 7-14-04; 8:45 am]

BILLING CODE 4820-02-P